DEPARTMENT OF COMMERCE

Foreign-Trade Zones Board

[Docket 33-2001]

Foreign-Trade Zone 40—Cleveland, OH, Area Application for Expansion

An application has been submitted to the Foreign-Trade Zones (FTZ) Board (the Board), by the Cleveland-Cuyahoga County Port Authority, grantee of Foreign-Trade Zone 40, requesting authority to expand its zone in the Cleveland, Ohio, area, within the Cleveland Customs port of entry. The application was submitted pursuant to the provisions of the Foreign-Trade Zones Act, as amended (19 U.S.C. 81a-81u), and the regulations of the Board (15 CFR part 400). It was formally filed on July 24, 2001.

FTZ 40 was approved on September 29, 1978 (Board Order 135, 43 FR 46886, 10/11/78) and expanded in June 1982 (Board Order 194, 47 FR 27579, 6/25/82); April 1992 (Board Order 574, 57 FR 13694, 4/17/92); February 1997 (Board Order 870, 62 FR 7750, 2/20/97; and, June 1999 (Board Order 1040, 64 FR 33242, 6/22/99). The general-purpose zone project currently consists of the following sites in the Cleveland, Ohio, area: Site 1 (94 acres)—Port of Cleveland complex on Lake Erie at the mouth of the Cuyahoga River, Cleveland; Site 2 (175 acres)—the IX Center (formerly the “Cleveland Tank Plant”), in Brook Park, adjacent to the Cleveland Hopkins International Airport; Site 3 (1,900 acres)—Cleveland Hopkins International Airport complex; Site 4 (450 acres)—Burke Lakefront Airport, 1501 North Marginal Road, Cleveland; Site 5 (276 acres)—Emerald Valley Business Park, Cochran Road and Beaver Meadow Parkway,Glenwillow; Site 6 (30 acres)—Collinwood site, South Waterloo (South Marginal) Road and East 152nd Street, Cleveland; Site 7 (47 acres)—Water Tower Industrial Park, Coit Road and East 140th Street, Cleveland; Site 8 (83 acres)—Strongsville Industrial Park, Royalton Road (State Route 82), Strongsville; and, Temporary Site 9 (13 acres)—East 40th Street between Kelley & Perkins Avenues (3830 Kelley Avenue), Cleveland.

The applicant is now requesting authority to expand the general-purpose zone to include on a permanent basis the area within Temporary Site 9 (expires 12/31/02) and to include an additional site—Proposed Site 10. Temporary Site 9, owned by the PUBCO Corporation, involves an inner-city business park. Proposed Site 10 (15 acres)—involves the Frane Properties Industrial Park, 2399 Forman Road, Morgan Township, Ashtabula County. The site served as a former ammunitions manufacturing and distribution facilities of the Smith & Wesson Corporation and is being developed as a business park/campus FTZ. The site is owned by Frane Properties LLC. The application also includes a request to restore 22 acres at Site 5 (new total 298). No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is October 1, 2001. Rebuttal comments in response to material submitted during the foregoing period may be submitted during the subsequent 15-day period (to October 15, 2001).

A copy of the application and accompanying exhibits will be available for public inspection at each of the following locations: U.S. Department of Commerce, International Trade Administration, Export Assistance Center, 600 Superior Avenue, East, Suite 700, Cleveland, OH 44114; Office of the Executive Secretary, Foreign-Trade Zones Board, Room 4008, U.S. Department of Commerce, 14th & Pennsylvania Avenue, NW., Washington, DC 20230.

Dated: July 25, 2001.
Dennis Puccinelli,
Executive Secretary.

[FR Doc. 01-19207 Filed 7-31-01; 8:45 am]

BILLING CODE 3510-DS-P